DEPARTMENT OF JUSTICE

[AAG/A Order No. 001-2005]

Privacy Act of 1974; Systems of Records

AGENCY: Federal Bureau of Investigation, Department of Justice.

ACTION: Notice.

SUMMARY: Pursuant to the Privacy Act of 1974 (5 U.S.C. 552a), and Office of Management and Budget (OMB) Circular No. A-130, notice is hereby given that the Department of Justice, Federal Bureau of Investigation (FBI), is modifying the following systems of records:

Bureau Mailing Lists, Justice/FBI-003 (previously published on June 22, 2001 at 66 FR 33560);

Electronic Surveillance (ELSUR) Indices, Justice/FBI-006 (previously published on June 22, 2001 at 66 FR 33560);

Security Access Control System (SACS), Justice/FBI-013 (previously published on October 3, 1993 at 58 FR 51877); and

Blanket Routine Uses (BRU) Applicable to More Than One FBI Privacy Act System of Records, Justice/FBI-BRU (previously published on June 22, 2001 at 66 FR 33558).

Opportunity for Comment: The Privacy Act (5 U.S.C. 552a(e)(4) and (11)) requires that the public be given 30 days in which to comment on any new or amended uses of information in a system of records. In addition, in accordance with Privacy Act requirements (5 U.S.C. 552a(r)), the Department of Justice has provided a report on these modifications to OMB and the Congress. OMB, which has oversight responsibilities under the Act, requires that OMB and the Congress be given 40 days in which to review major changes to Privacy Act systems. Therefore, the public, OMB, and the Congress are invited to submit written comments on this modification.

Address Comments or Requests for Further Information to: Mary E. Cahill, Management Analyst, Management and Planning Staff, Justice Management Division, Department of Justice, 1400 National Place, Washington, DC 20530.

DATES: These proposed changes will be effective March 28, 2005, unless comments are received that result in a contrary determination.

SUPPLEMENTARY INFORMATION: The FBI is modifying the Bureau Mailing Lists, ELSUR, and SACS system of records notices and the BRU notice to clarify and update them. The Bureau Mailing Lists system notice is being modified to clarify the categories of individuals covered by the system and the categories of records in the system.

The SACS notice is being modified to expand the system location, to clarify the categories of individuals covered by the system and the categories of records in the system, to explain the routine uses that apply to this system, and to revise the policies and practices for storing, retrieving, accessing, retaining and disposing of records in the system.

The FBI has also made minor amendments to correct typographical errors in both notices. Additionally, further explanation in the “Purpose” section has also been made to both notices.

The ELSUR system notice is being revised to expand the categories of individuals covered by the system to include the names of the judge and the prosecuting attorney in the application and the Department of Justice official who reviewed the affidavit and approved the filing of the application with the court.

The BRU notice is being revised to add five routine uses which, like the other blanket routine uses, will apply to all systems of records (with the exception of the National DNA Index System and the National Instant Criminal Background Check System). These routine uses permit disclosures to the White House and to complainants/victims, and disclosures involving hiring, clearances, or licensing, and have been published by the Department of Justice for some of its other systems.

The Bureau Mailing Lists, SACS and ELSUR systems are being republished to reflect these changes. A description of the modification to the three systems of records is attached.

Dated: February 4, 2005.
Paul R. Corts,
Assistant Attorney General for Administration.

JUSTICE/FBI-003

SYSTEM NAME:

Bureau Mailing Lists.

SYSTEM LOCATION:

Records may be maintained at all locations at which the Federal Bureau of Investigation (FBI) operates, including: J. Edgar Hoover FBI Bldg., 935 Pennsylvania Ave., NW., Washington, DC 20535; FBI Academy and FBI Laboratory, Quantico, VA 22135; FBI Criminal Justice Information Services (CJIS) Division, 1000 Custer Hollow Rd., Clarksburg, WV 26306; and FBI field offices, legal attaches, and information technology centers as listed on the FBI's Internet Web site, http://www.fbi.gov, including any future revisions to the Web site.

CATEGORIES OF INDIVIDUALS COVERED BY THE SYSTEM:

All persons appearing on manual or electronic rolodexes, e-mail address groups, electronic merge files, address books, or other mailing lists maintained in any medium throughout the FBI to facilitate mailings, electronic disseminations, or other communications to one or more recipients in furtherance of FBI activities. These include persons who have requested Bureau material, persons who are routinely forwarded unsolicited Bureau material and who meet established criteria (generally law enforcement or closely related interests), and persons who may be in a position to furnish assistance in furtherance of the FBI's mission. These do not include persons on mailing lists not encompassed within this system as described in the section titled “Categories of Records in the System.”

CATEGORIES OF RECORDS IN THE SYSTEM:

Records may include names, addresses, telephone numbers, e-mail or internet addresses, business affiliation, and supplemental information related to addressees and relevant to a list's purpose. These do not, however, include mailing lists which have been incorporated into some other FBI records system, such as a mailing list supporting a particular investigation maintained as an investigative record within the FBI's Central Records System.

AUTHORITY FOR MAINTENANCE OF THE SYSTEM:

Title 5, United States Code, section 301; title 44, United States Code, section 3101; title 28, United States Code, section 533; and title 28, Code of Federal Regulations, section 0.85.

PURPOSE(S):

System records are used for disseminating FBI material to one or more addressees, via hard copy, e-mail, or other means of distribution, in furtherance of FBI activities. For example, various fugitive alerts are furnished to local law enforcement agencies, investigation periodicals are provided to law enforcement professionals, and information on local law enforcement issues may be provided to community leaders.

ROUTINE USES OF RECORDS MAINTAINED IN THE SYSTEM, INCLUDING CATEGORIES OF USERS AND THE PURPOSES OF SUCH USES:

The FBI may disclose relevant system records in accordance with any current or future blanket routine uses established for FBI records systems. See Blanket Routine Uses (BRU) Applicable to More Than One FBI Privacy Act System of Records, Justice/FBI-BRU, published on June 22, 2001 at 66 Fed. Reg. 33558 and amended in today's Federal Register (and any future revisions).

In addition, as a routine use specific to this system, the FBI may disclose relevant system records to the following persons or entities under the circumstances or for the purposes described below, to the extent such disclosures are compatible with the purpose for which the information was collected. (Routine uses are not meant to be mutually exclusive and may overlap in some cases.)

To a federal, state, local, joint, tribal, foreign, international, or other public agency/organization, where such disclosure serves law enforcement interests. By way of example and not limitation, such disclosures may for instance include: Sharing names of law enforcement professionals receiving FBI periodicals with law enforcement agencies interested in reaching a similar audience; sharing information of intelligence value with other law enforcement or intelligence agencies to whose lawful responsibilities the information may be germane; or sharing information pertinent to victim/witness assistance with local government entities in furtherance of such assistance.

POLICIES AND PRACTICES FOR STORING, RETRIEVING, ACCESSING, RETAINING, AND DISPOSING OF RECORDS IN THE SYSTEM:

STORAGE:

Most information is maintained in computerized form and stored in memory, on disk storage, on computer tape, or other computer media. However, some information may also be maintained in hard copy (paper) or other form.

RETRIEVABILITY:

Information typically will be retrieved by an ID number assigned by computer or by name of person or organization.

SAFEGUARDS:

System records are maintained in limited access space in FBI facilities and offices. Computerized data is password protected. All FBI personnel are required to pass an extensive background investigation. The information is accessed only by authorized DOJ personnel or by non-DOJ personnel properly authorized to assist in the conduct of an agency function related to these records.

RETENTION AND DISPOSAL:

FBI offices revise the lists as necessary. The records are destroyed, under authority granted by the National Archives and Records Administration, when administrative needs are satisfied.

SYSTEM MANAGER(S) AND ADDRESS:

Director, FBI, 935 Pennsylvania Ave., NW., Washington, DC 20535-0001.

NOTIFICATION PROCEDURES:

Same as Record Access Procedures.

RECORD ACCESS PROCEDURES:

A request for access to a record from the system shall be made in writing with the envelope and the letter clearly marked “Privacy Act Request”. Include in the request your full name and complete address. The requester must sign the request; and, to verify it, the signature must be notarized or submitted under 28 U.S.C. 1746, a law that permits statements to be made under penalty of perjury as a substitute for notarization. You may submit any other identifying data you wish to furnish to assist in making a proper search of the system. Requests for access to information maintained at FBI Headquarters must be addressed to the Record/Information Dissemination Section, Federal Bureau of Investigation, 935 Pennsylvania Ave., NW., Washington, DC 20535-0001. Requests for information maintained at FBI field offices, legal attaches, information technology centers, or other locations must be made separately and addressed to the specific field office, legal attache, information technology center, or other location as listed on the FBI's Internet Web site, http://www.fbi.gov, including any future revisions to the Web site.

CONTESTING RECORD PROCEDURES:

Individuals desiring to contest or amend information maintained in the system should also direct their request to the appropriate FBI office, stating clearly and concisely what information is being contested, the reasons for contesting it, and the proposed amendment to the information sought.

RECORD SOURCE CATEGORIES:

The mailing list information is based on information supplied by affected individuals/organizations, public source data, and/or information already in other FBI records systems.

EXEMPTIONS CLAIMED FOR THE SYSTEM:

None.

JUSTICE/FBI-006

SYSTEM NAME:

Electronic Surveillance (ELSUR) Indices.

SYSTEM LOCATION:

Records may be maintained at all locations at which the Federal Bureau of Investigation (FBI) operates, including: J. Edgar Hoover FBI Bldg., 935 Pennsylvania Ave., NW., Washington, DC 20535; FBI Academy and FBI Laboratory, Quantico, VA 22135; FBI Criminal Justice Information Services (CJIS) Division, 1000 Custer Hollow Rd., Clarksburg, WV 26306; FBI field offices, legal attaches, and information technology centers as listed on the FBI's Internet Web site, http://www.fbi.gov, including any future revisions to the Web site.

CATEGORIES OF INDIVIDUALS COVERED BY THE SYSTEM:

Individuals and entities who have been the targets of electronic surveillance coverage sought, conducted, or administered by the FBI pursuant to a court order, consensual monitoring, or other authority; those who have been a party to a communication or present in a locale monitored/recorded electronically pursuant to such electronic surveillance; those who own, lease, license, hold a possessory interest in, or commonly use the property or location subjected to such electronic surveillance; and those involved in the administration of the electronic surveillance, for example, the judge issuing or denying an order for an electronic surveillance application, the prosecuting attorney, and the officials who authorized the filing of the application.

CATEGORIES OF RECORDS IN THE SYSTEM:

The ELSUR Indices are comprised of four types of records:

1. Principal records identify, by true name or best known name, all persons, entities, and facilities who have been the targets of electronic surveillance coverage sought, conducted, or administered by the FBI pursuant to a court order or other authority. These records include, but are not limited to, persons, entities, and facilities named in an application filed in support of an affidavit seeking a court order to conduct or administer an electronic surveillance. Principal records may also include descriptive data associated with the name appearing on the record.

2. Proprietary-interest records identify entities and/or individuals who own, lease, license, hold a possessory interest in, or commonly use the property or location subjected to an electronic surveillance. Proprietary interest records may identify individuals involved in the administration of the electronic surveillance; for example, the judge issuing or denying an order for an electronic surveillance application, the prosecuting attorney, the officials who authorized the filing of the application. Proprietary-interest records may also include descriptive data associated with the name appearing on the record.

3. Intercept records identify, by true name or best known name, individuals who have been reasonably identified by a first name or initial and a last name as being a party to a communication monitored/recorded electronically pursuant to an electronic surveillance. Intercept records also identify entities that have been a party to a communication or present in a locale monitored/recorded electronically pursuant to an electronic surveillance. Intercept records may include descriptive data associated with the name appearing on the record.

4. Reference records identify, by partial name, such as a first name only, last name only, code name, nickname, or alias those individuals who have been a party to a communication or present in a locale monitored/recorded electronically pursuant to an electronic surveillance, and may include descriptive data associated with the individual. If the individual is later identified by a more complete name, e.g., through further monitoring or normal investigative procedures, the reference record is re-entered as an intercept record.

AUTHORITY FOR MAINTENANCE OF THE SYSTEM:

The ELSUR Indices were initiated in October, 1966, at the recommendation of the Department of Justice and relate to electronic surveillance sought, administered, and/or conducted by the FBI since January 1, 1960. The authority for the maintenance of these records is title 5, United States Code, section 301; title 44, United States Code, section 3101; title 18, United States Code, section 2510, et seq.; title 18, United States Code, section 3504; title 28, United States Code, section 533; title 50, United States Code 1801, et seq.; and title 28, Code of Federal Regulations, section 0.85.

PURPOSE(S):

These records are used by the FBI to maintain certain information regarding electronic surveillance sought, conducted or administered by the FBI in order to permit the agency to respond to judicial inquiries about possible electronic surveillance coverage of any individual or entity, and to enable the Government to certify, as requested by federal, state or local law enforcement agencies, whether or not an individual, entity, facility, or place on whom a court ordered authority is being sought for electronic surveillance coverage has ever been subjected to electronic surveillance coverage in the past.

ROUTINE USES OF RECORDS MAINTAINED IN THE SYSTEM, INCLUDING CATEGORIES OF USERS AND THE PURPOSES OF SUCH USES:

The FBI may disclose relevant system records in accordance with any current and future blanket routine uses established for FBI records systems. See Blanket Routine Uses (BRU) Applicable to More Than One FBI Privacy Act System of Records, Justice/FBI-BRU, published on June 22, 2001 at 66 FR 33558 and amended in today's Federal Register (and any future revisions).

In addition, as routine uses specific to this system, the FBI may disclose relevant system records to the following persons or entities under the circumstances or for the purposes described below, to the extent such disclosures are compatible with the purpose for which the information was collected. (Routine uses are not meant to be mutually exclusive and may overlap in some cases.)

A. To the judiciary in response to inquiries about possible electronic surveillance coverage of any individual or entity.

B. To federal, state, local and tribal law enforcement officers to enable the government to certify whether or not an individual, entity, facility, or place on whom a court ordered authority is being sought for electronic surveillance coverage has ever been subjected to electronic surveillance coverage in the past.

C. To a federal, state, local, joint, tribal, foreign, international, or other public agency/organization, where such disclosure serves a law enforcement purpose, such as sharing information of intelligence value with other law enforcement or intelligence agencies to whose lawful responsibilities the information may be germane.

D. To any person or entity in either the public or private sector, domestic or foreign, if deemed by the FBI to be reasonably necessary in eliciting information or cooperation from the recipient for use by the FBI in the performance of an authorized function, e.g., disclosure of personal information to a member of the public in order to elicit his/her assistance/cooperation in a criminal, security, or employment background investigation.

E. To any person or entity in either the public or private sector, domestic or foreign, where there is reason to believe that a person or entity could become the target of a particular criminal activity or conspiracy, to the extent the disclosure of information is deemed by the FBI to be reasonable and relevant to the protection of life, health, or property of such target.

POLICIES AND PRACTICES FOR STORING, RETRIEVING, ACCESSING, RETAINING, AND DISPOSING OF RECORDS IN THE SYSTEM:

STORAGE:

The majority of the records are maintained in an automated data base. Some records are maintained in hard-copy (paper) format or other form.

RETRIEVABILITY:

Information typically will be retrieved by the name of the individual or entity. Telephone numbers and other such serial or identification numbers are retrievable numerically. Locations targeted are retrievable by street name.

SAFEGUARDS:

System records are maintained in limited access space in FBI facilities and offices. Computerized data is password protected. All FBI personnel are required to pass an extensive background investigation. The information is accessed only by authorized DOJ personnel or by non-DOJ personnel properly authorized to assist in the conduct of an agency function related to these records.

RETENTION AND DISPOSAL:

A reference record is purged if the individual is later identified by a more complete name and converted to an intercept record. Remaining reference records are purged from the system as follows. Those relating to court ordered electronic surveillance are purged six months from the date the corresponding authorization for the surveillance expires. Reference records relating to consensual intercepts are purged one year from the last intercept date shown on the record. Until advised to the contrary by the Department of Justice, the courts, or applicable legislation, all other indices records will be maintained indefinitely and have been declared permanent by the National Archives and Records Administration (NARA) (Job No. NC1-65-82-4, Part E, item 2(t)).

SYSTEM MANAGER(S) AND ADDRESS:

Director, Federal Bureau of Investigation, 935 Pennsylvania Avenue, NW., Washington, DC 20535.

NOTIFICATION PROCEDURE:

Same as Record Access Procedures.

RECORD ACCESS PROCEDURES:

A request for notification as to whether a record about an individual exists in the system and/or for access to a record from the system shall be made in writing with the envelope and the letter clearly marked “Privacy Act Request.” Include in the request your full name and complete address. The requester must sign the request; and, to verify it, the signature must be notarized or submitted under 28 U.S.C. 1746, a law that permits statements to be made under penalty of perjury as a substitute for notarization. You may submit any other identifying data you wish to furnish to assist in making a proper search of the system. Requests for access to information maintained at FBI Headquarters must be addressed to the Record/Information Dissemination Section, Federal Bureau of Investigation, 935 Pennsylvania Avenue, NW., Washington, DC 20535-0001. Requests for information maintained at FBI field offices, information technology centers, or other locations must be made separately and addressed to the specific field office, information technology center, or other location as listed on the FBI's Internet Web site, http://www.fbi.gov, including any future revisions to the Web site.

Some information may be exempt from notification and/or access procedures as described in the section titled “Exemptions Claimed for the System.” An individual who is the subject of one or more records in this system may be notified of records that are not exempt from notification and may access those records that are not exempt from disclosure. A determination on notification and access will be made at the time a request is received.

CONTESTING RECORD PROCEDURES:

If you desire to contest or amend information maintained in the system, you should also direct your request to the appropriate FBI office, stating clearly and concisely what information is being contested, the reasons for contesting it, and the proposed amendment to the information sought.

Some information may be exempt from contesting record procedures as described in the section titled “Exemptions Claimed for the System.” An individual who is the subject of one or more records in this system may contest and pursue amendment of those records that are not exempt. A determination whether a record may be subject to amendment will be made at the time a request is received.

RECORD SOURCE CATEGORIES:

Information in the indices is derived from electronic surveillance, public source information, and other FBI record systems.

EXEMPTIONS CLAIMED FOR THE SYSTEM:

The Attorney General has exempted this system from subsections (c)(3) and (4), (d), (e)(1), (2) and (3), (e)(4)(G) and(H), (e)(5) and (8), (f), (g) and (m) of the Privacy Act pursuant to 5 U.S.C. 552a(j). Rules have been promulgated in accordance with the requirements of 5 U.S.C. 553(b), (c) and (e), have been published in the Federal Register, and are codified at 28 CFR 16.96(c) and (d).

JUSTICE/FBI-013

SYSTEM NAME:

Security Access Control System (SACS).

SYSTEM LOCATION:

Records may be located at all locations at which the Federal Bureau of Investigation (FBI) operates, including: J. Edgar Hoover FBI Building, 935 Pennsylvania Ave., NW., Washington, DC 20535; FBI Academy and FBI Laboratory, Quantico, VA 22135; FBI Criminal Justice Information Services (CJIS) Division, 1000 Custer Hollow Rd., Clarksburg, WV 26306; FBI field offices, legal attaches, and information technology centers as listed on the FBI's Internet Web site, http://www.fbi.gov, including any future revisions to the Web site.

CATEGORIES OF INDIVIDUALS COVERED BY THE SYSTEM:

All individuals who have applied for, sought, been considered for, attempted and/or obtained access to the J. Edgar Hoover FBI Building, FBI field offices, CJIS West Virginia Complex, FBI Academy, FBI Laboratory, legal attaches, information technology centers or other locations where the FBI operates, or to FBI vehicles, property or equipment, including: current and former FBI employees, contractors, vendors, grantees, experts, consultants, task force personnel, volunteers, detailees, visitors, and other non-FBI employees. May also include persons identified as employers, sponsors, references, or contacts for the above individuals.

CATEGORIES OF RECORDS IN THE SYSTEM:

Records may include: names; social security numbers; dates of birth; physical descriptions; badge numbers; information on employer, sponsor, contacts, and/or references; home and/or business addresses and phone numbers; dates and times of entry, exit, and/or passage through control points; fingerprints, photographs, videos, electronic images, signatures, and other biometric identifiers; vehicle identification data; purpose of visit and person visited and/or other related information.

AUTHORITY FOR MAINTENANCE OF THE SYSTEM:

Executive Order 12958, as amended 13292, Title 5 U.S.C. 552a(e)(10); title 44 U.S.C. chapters 21 and 33. These statutes, as well as the Executive Orders, are directed toward security of United States Government records maintained by federal agencies. Title 40 U.S.C. chapter 318a; and Title 41 CFR 102-81.10 and 81.15. This statute and the federal regulations are directed toward security of United States Government buildings and the people therein.

PURPOSE(S):

System records are necessary to maintain the security of the personnel and locations at which the FBI operates, and of FBI records, vehicles, property and equipment, and are used to determine eligibility and/or the status of individuals who have applied for, sought, been considered for, attempted and/or obtained such access. System records are also used to maintain control of badges issued for access to locations where the FBI operates and to Bureau vehicles, property or equipment.

ROUTINE USES OF RECORDS MAINTAINED IN THE SYSTEM, INCLUDING CATEGORIES OF USERS AND THE PURPOSES OF SUCH USES:

The FBI may disclose relevant system records in accordance with any current or future blanket routine uses established for FBI records systems. See Blanket Routine Uses (BRU) Applicable to More Than One FBI Privacy Act System of Records, Justice/FBI-BRU, published on June 22, 2001 at 66 FR 33558 and amended in today's Federal Register (and any future revisions).

In addition, as routine uses specific to this system, the FBI may disclose relevant system records to the following persons or entities under the circumstances or for the purposes described below, to the extent such disclosures are compatible with the purpose for which the information was collected. (Routine uses are not meant to be mutually exclusive and may overlap in some cases.)

A. To a federal, state, local, joint, tribal, foreign, international, or other public agency/organization, where such disclosure serves a law enforcement purpose, such as sharing information of intelligence value with other law enforcement or intelligence agencies to whose lawful responsibilities the information may be germane.

B. To any person or entity in either the public or private sector, domestic or foreign, if deemed by the FBI to be reasonably necessary in eliciting information or cooperation from the recipient for use by the FBI in furthering the purposes of the system, e.g., disclosure of personal identifying information to an associate or employer of a person to confirm the person's identity, suitability, and reason for access to an FBI facility.

POLICIES AND PRACTICES FOR STORING, RETRIEVING, ACCESSING, RETAINING, AND DISPOSING OF RECORDS IN THE SYSTEM:

STORAGE:

Most information is maintained in computerized form and stored in memory, on disk storage, on computer tape, or other computer media. However, some information may also be maintained in hard copy (paper) or other form.

RETRIEVABILITY:

Information is typically retrieved by name of the individual, other personal identifiers, or by access badge number.

SAFEGUARDS:

System records are maintained in limited access space in FBI controlled facilities and offices. Computerized data is password protected. All FBI personnel are required to pass an extensive background investigation. The information is accessed only by authorized DOJ personnel or by non-DOJ personnel properly authorized to assist in the conduct of an agency function related to these records.

RETENTION AND DISPOSAL:

System records in all formats are maintained and disposed of in accordance with appropriate authority of the National Archives and Records Administration.

SYSTEM MANAGER(S) AND ADDRESS:

Director, FBI, 935 Pennsylvania Ave., NW., Washington, DC 20535-0001.

NOTIFICATION PROCEDURES:

Same as Record Access Procedures.

RECORD ACCESS PROCEDURES:

A request for access to a record from the system shall be made in writing with the envelope and the letter clearly marked “Privacy Act Request”. Include in the request your full name and complete address. The requester must sign the request; and, to verify it, the signature must be notarized or submitted under 28 U.S.C. 1746, a law that permits statements to be made under penalty of perjury as a substitute for notarization. You may submit any other identifying data you wish to furnish to assist in making a proper search of the system. Requests for access to information maintained at FBI Headquarters must be addressed to the Record/Information Dissemination Section, Federal Bureau of Investigation, 935 Pennsylvania Ave., NW., Washington, DC 20535-0001. Requests for information maintained at other FBI locations must be made separately and addressed to the specific location as listed on the FBI's Internet Web site, http://www.fbi.gov, including any future revisions to the Web site.

CONTESTING RECORD PROCEDURES:

Individuals desiring to contest or amend information maintained in the system should also direct their request to the appropriate FBI location, stating clearly and concisely what information is being contested, the reasons for contesting it, and the proposed amendment to the information sought.

RECORD SOURCE CATEGORIES:

See Categories of Individuals Covered by The System.

EXEMPTIONS CLAIMED FOR THE SYSTEM:

None.

JUSTICE/FBI-BRU

SUBJECT:

Blanket Routine Uses (BRU) Applicable to More Than One FBI Privacy Act System of Records.

ACTION:

The system notice published in the Federal Register on June 22, 2001 (66 FR 22559), is amended as follows:

In the section titled “Routine Uses of Records Maintained in FBI Systems, Including Categories of Users and the Purposes of Such Uses,” the section is amended by making minor corrections to BRU-2 and BRU-8, and by adding BRU-11, BRU-12, BRU-13, BRU-14, and BRU-15 directly after the description of BRU-10, so that the section reads as follows:

ROUTINE USES OF RECORDS MAINTAINED IN FBI SYSTEMS, INCLUDING CATEGORIES OF USERS AND THE PURPOSES OF SUCH USES:

* * * * *

BRU-2. Non-FBI Employees. To contractors, grantees, experts, consultants, students, or others performing or working on a contract, service, grant, cooperative agreement, or other assignment for the Federal Government, when necessary to accomplish an agency function.

* * * * *

BRU-8. National Archives and Records Administration (NARA) Records Management. To the National Archives and Records Administration (NARA) for records management inspections and such other purposes conducted under the authority of 44 U.S.C. 2904 and 2906.

* * * * *

BRU-11. The White House. To the White House (the President, Vice President, their staffs, and other entities of the Executive Office of the President (EOP)), and, during Presidential transitions, the President-Elect and Vice-President Elect and their designees for appointment, employment, security, and access purposes compatible with the purposes for which the records were collected by the FBI, e.g., disclosure of information to assist the White House in making a determination whether an individual should be: (1) granted, denied, or permitted to continue in employment on the White House Staff; (2) given a Presidential appointment or Presidential recognition; (3) provided access, or continued access, to classified or sensitive information; or (4) permitted access, or continued access, to personnel or facilities of the White House/EOP complex. System records may be disclosed also to the White House and, during Presidential transitions, to the President Elect and Vice-President Elect and their designees, for Executive Branch coordination of activities which relate to or have an effect upon the carrying out of the constitutional, statutory, or other official or ceremonial duties of the President, President Elect, Vice-President or Vice-President Elect.

BRU-12. Complainants and Victims. To complainants and/or victims to the extent deemed appropriate by the FBI to provide such persons with information and explanations concerning the progress and/or results of the investigations or cases arising from the matters of which they complained and/or of which they were victims.

BRU-13. To appropriate officials and employees of a federal agency or entity which requires information relevant to a decision concerning the hiring, appointment, or retention of an employee; the issuance, renewal, suspension, or revocation of a security clearance; the execution of a security or suitability investigation; the letting of a contract; or the issuance of a grant or benefit.

BRU-14. To federal, state, local, tribal, foreign, or international licensing agencies or associations which require information concerning the suitability or eligibility of an individual for a license or permit.

BRU-15. To designated officers and employees of state, local (including the District of Columbia), or tribal law enforcement or detention agencies in connection with the hiring or continued employment of an employee or contractor, where the employee or contractor would occupy or occupies a position of public trust as a law enforcement officer or detention officer having direct contact with the public or with prisoners or detainees, to the extent that the information is relevant and necessary to the recipient agency's decision.

[FR Doc. 05-2777 Filed 2-11-05; 8:45 am]

BILLING CODE 4410-02-P